DEPARTMENT OF ENERGY

Federal Energy Regulatory Commission

[Docket No. RP02-114-006]

Tennessee Gas Pipeline Company; Notice of Compliance Filing

June 4, 2004.

Take notice that on May 20, 2004, and May 28, 2004, Tennessee Gas Pipeline Company (Tennessee) tendered for filing a response to a Commission Staff data request dated May 3, 2004.

Tennessee states that copies of its filing will be served to all parties of record in the RP02-114-000 proceedings.

Any party desiring to protest said filing should file a protest with the Federal Energy Regulatory Commission, 888 First Street, NE., Washington, DC 20426, in accordance with Section 385.211 of the Commission's Rules and Regulations. All such protests must be filed in on or before the date as indicated below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: June 15, 2004.

Linda Mitry,
Acting Secretary.

[FR Doc. E4-1322 Filed 6-9-04; 8:45 am]

BILLING CODE 6717-01-P